DEPARTMENT OF COMMERCE

National Oceanic and Atmospheric Administration

Proposed Information Collection; Comment Request; StormReady and TsunamiReady/StormReady Application Forms

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 13, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Donna Franklin, 301-713-0090 ext 141 or Donna.Franklin@noaa.gov.

SUPPLEMENTARY INFORMATION:

I. Abstract

StormReady and TsunamiReady are voluntary programs offered to provide guidance and incentive to officials who wish to improve their hazardous weather operations—not only the equipment needed for reception of hazardous weather warnings, but overall planning, education and awareness. Applicants will use the StormReady Application form and TsunamiReady/StormReady Application form to apply for initial StormReady or TsunamiReady/StormReady recognition and renewal of that recognition every three years; thus, a typical StormReady community would use this form 3 times every 10 years. The government will use the information collected by application to determine whether a community has met all of the guidelines, e.g. for community preparedness and local warning dissemination, to receive StormReady and/or TsunamiReady recognition.

II. Method of Collection

Applications will be submitted on paper (faxed or mailed) or electronically.

III. Data

OMB Control Number: 0648-0419.

Form Number: None.

Type of Review: Regular submission.

Affected Public: State, local, or tribal government.

Estimated Number of Respondents: 120.

Estimated Time per Response: Two hours.

Estimated Total Annual Burden Hours: 240.

Estimated Total Annual Cost to Public: $120 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 6, 2009.
Gwellnar Banks,
Management Analyst, Office of the Chief Information Officer.

[FR Doc. E9-275 Filed 1-9-09; 8:45 am]

BILLING CODE 3510-KE-P